DEPARTMENT OF COMMERCE

National Oceanic and Atmospheric Administration

50 CFR Part 648

[Docket No. 040302080-4157-02 ; I.D.021104C]

RIN 0648-AR44

Fisheries of the Northeastern United States; Atlantic Mackerel, Squid and Butterfish Fisheries; Framework Adjustment 4

AGENCY: National Marine Fisheries Service (NMFS), National Oceanic and Atmospheric Administration (NOAA), Commerce.

ACTION: Final rule for Framework Adjustment 4 (Framework 4) to the Atlantic Mackerel, Squid, and Butterfish Fishery Management Plan (FMP).

SUMMARY: NMFS issues the final rule to implement measures contained in Framework 4. This action extends the limited entry program for the Illex squid fishery for an additional five years. This action is intended to further the objectives of the FMP and the Magnuson-Stevens Fishery Conservation and Management Act (Magnuson-Stevens Act).

DATES: Effective July 1, 2004, through July 1, 2009.

ADDRESSES: Copies of Framework 4, including the Final Environmental Impact Statement (FEIS) and Regulatory Impact Review (RIR)/ Regulatory Flexibility Analysis (RFA), are available from: Daniel Furlong, Executive Director, Mid-Atlantic Fishery Management Council (Council), Room 2115, Federal Building, 300 South New Street, Dover, DE 19904-6790. The FEIS/RIR/RFA and the Record of Decision (ROD) are accessible via the Internet at http://www.nero.noaa.gov. Copies of the Record of Decision (ROD) are also available from the Regional Administrator, Northeast Regional Office, NMFS, One Blackburn Drive, Gloucester, MA 01930-2298.

FOR FURTHER INFORMATION CONTACT: Eric Jay Dolin, Fishery Policy Analyst: phone 978-281-9259; fax 978-281-9135; e-mail eric.dolin@noaa.gov.

SUPPLEMENTARY INFORMATION: This action extends the Illex squid limited entry (moratorium) program until July 1, 2009, to prevent overcapitalization while the issue is further considered in an amendment to the FMP (Amendment 9), which is being developed by the Council. This extension complies with the criteria in section 303(b)(6) of the Magnuson-Stevens Act. The extension will allow the Council additional time to consider long-term management for the Illex squid fishery, including the limited entry program. Vessels that took small quantities of Illex squid in the past may continue to do so under the incidental catch provision of the FMP.

The proposed rule for Framework 4 was published on March 26, 2004 (69 FR 15778). Public comments were accepted through April 26, 2004. A full discussion of the background of this action was provided in the proposal and is not repeated here. The final Framework 4 provision is unchanged from that which was proposed.

Comments and Responses

One comment was received from a private individual.

Comment: The number of boats that are allowed to fish for Illex under the moratorium should be cut by 50 percent.

Response: Cutting the number of moratorium permits in half is outside the scope of this framework action, the sole purpose of which is to extend the existing moratorium on entry to the Illex fishery while the Council addresses this issue in Amendment 9.

Classification

This final rule has been determined to be not significant for purposes of Executive Order 12866.

Included in this final rule is the Final Regulatory Flexibility Analysis (FRFA) prepared pursuant to 5 U.S.C. 604(a). The FRFA incorporates the discussion that follows, the comments and responses to the proposed rule, and the Initial RFA (IRFA) and other analyses completed in support of this action. A copy of the IRFA is available from the Executive Director of the Council and via the Internet (see ADDRESSES).

Final Regulatory Flexibility Analysis

Statement of Objective and Need

A description of the reasons why this action is being considered, and the objectives of and legal basis for this action, is contained in the preamble to the proposed rule and is not repeated here.

Summary of Significant Issues Raised in Public Comments

One comment was submitted on the proposed rule, but it was not specific to the IRFA or the economic impact of the rule.

Description and Estimate of Number of Small Entities to Which the Rule Will Apply

There are 72 vessels that have been issued moratorium permits, all of which would be impacted by this action. There are no large entities (vessels) participating in this fishery, as defined in section 601 of the Regulatory Flexibility Act. Implementation of this action is not expected to affect the current structure of the vessels allowed to participate in this fishery, therefore, it is not expected to affect revenues or profits of the participating vessels. Also, since the Illex fishery is regulated via a hard quota system, this action would not directly affect the quantity of Illex landed in the commercial fishery.

Description of Projected Reporting, Recordkeeping, and Other Compliance Requirements

This action does not contain any new collection-of-information, reporting, recordkeeping, or other compliance requirements. It does not duplicate, overlap, or conflict with any other Federal rules.

Minimizing Significant Economic Impacts on Small Entities

In addition to the preferred Alternative 1, the Council considered three other alternatives. Alternative 2 would have extended the moratorium on entry to the Illex fishery for an additional two years (through July 1, 2005); Alternative 3 would have allowed the moratorium on entry to the Illex fishery to expire on July 1, 2003 (no action); and Alternative 4 would have extended the moratorium on entry to the Illex fishery indefinitely. Alternative 4 was rejected from further consideration and analysis because, as explained in detail in the proposed rule, the Council and NMFS considered the measure to be beyond the scope of a framework action. The framework adjustment process set forth at 50 CFR 648.24 is a mechanism to add management measures to or adjust management measures in the FMP. As a consequence, the Illex squid moratorium limitation in the FMP is subject to an adjustment through this framework adjustment process. But the Council concluded that this process was developed to make revisions to the measures in the FMP that did not represent major changes to cornerstone provisions of the FMP, such as the moratorium on entry into the Illex squid fishery. Under the Magnuson-Stevens Act, the process of amending the FMP is the appropriate mechanism to extend the moratorium indefinitely.

Alternative 2 would have extended the moratorium on entry of new vessels into the Illex fishery, though for a shorter period. Therefore, it would not minimize impacts on vessels when compared to this action. Under Alternative 3, the no-action alternative, the Illex fishery would have reverted to open access which could potentially impact the current participants in the directed fishery. In 2002, there were 72 vessels permitted to participate in the directed Illex fishery, however, only 50 percent of those vessels (36 vessels) landed any Illex squid in 2002. The Illex squid vessels currently permitted to participate in the fishery have the capability to harvest the total harvest level. In fact, in 1998, permitted vessels were able to land the total harvest level and the fishery was closed early that year. Therefore, it is expected that if a significant number of additional vessels entered the fishery as a consequence of Alternative 3, it could affect the current revenue structures of participants and/or create derby-style fishing practices which could potentially lead to an early closure of the directed fishery.

Small Entity Compliance Guide

Section 212 of the Small Business Regulatory Enforcement Fairness Act of 1996 states that, for each rule, or group of related rules, for which an agency is required to prepare a FRFA, the agency shall publish one or more guides to assist small entities in complying with the rule and shall designate such publications as “small entity compliance guides.” The agency shall explain the actions a small entity is required to take to comply with a rule or group of rules. As part of this rulemaking process, a small entity compliance guide will be sent to all holders of Illex moratorium permits. In addition, copies of this final rule and guide (i.e., permit holder letter) may be found at the following web site: http://www.nmfs.gov/ro/doc/nero.html.

List of Subjects in 50 CFR Part 648

Fisheries, Fishing, Reporting and recordkeeping requirements.

Dated: May 25, 2004.
William T. Hogarth
Assistant Administrator for Fisheries, National Marine Fisheries Service.

For the reasons set out in the preamble, 50 CFR part 648 is to be amended as follows:

PART 648—FISHERIES OF THE NORTHEASTERN UNITED STATES

1. The authority citation for part 648 continues to read as follows:

Authority: 16 U.S.C. 1801 et seq.

2. In § 648.4, the heading of paragraph (a)(5)(i) is revised to read as follows:

§ 648.4 Vessel permits.

(a) * * *

(5) * * *

(i) Loligo squid/butterfish and Illex squid moratorium permits (Illex squid moratorium is applicable from July 1, 1997, until July 1, 2009). * * *

* * * * *

[FR Doc. 04-12353 Filed 5-28-04; 8:45 am]

BILLING CODE 3510-22-S